DEPARTMENT OF COMMERCE

Bureau of Industry and Security

15 CFR Parts 730, 732, 734, 736, 740, 742, 743, 744, 745, 748, 752, 754, 756, 758, 760, 762, 764, and 772

[Docket No. 120320203-2295-03]

RIN 0694-AF63

Editorial Corrections to the Export Administration Regulations

AGENCY: Bureau of Industry and Security, Commerce.

ACTION: Final rule.

SUMMARY: This final rule corrects reference and typographical errors in the Export Administration Regulations (EAR). The corrections are editorial in nature and do not affect license requirements.

DATES: Effective on February 28, 2013.

FOR FURTHER INFORMATION CONTACT: Robert Monjay, Office of Exporter Services, Bureau of Industry and Security, by telephone (202) 482-2440 or email: Robert.Monjay@bis.doc.gov.

SUPPLEMENTARY INFORMATION:

Background

On November 14, 1994, by Executive Order 12938, the President declared a national emergency with respect to the unusual and extraordinary threat to the national security, foreign policy, and economy of the United States posed by the proliferation of nuclear, biological, and chemical weapons (weapons of mass destruction) and the means of delivering such weapons. The authority for parts 730, 734, 736, 742 and 745 of the EAR rests in part on that executive order and the annual notices continuing the international emergency declared therein. This rule revises the authority citations paragraphs to parts 730, 734, 736, 742 and 745 of the EAR (15 CFR parts 730, 734, 736, 742 and 745) to include citations to the President's Notice of November 1, 2012—Continuation of the National Emergency With Respect to Weapons of Mass Destruction (77 FR 66513, November 5, 2012), which is the most recent such annual notice.

On September 23, 2001, by Executive Order 13224 (66 FR 49079, 3 CFR, 2001 Comp., p. 786), pursuant to the International Emergency Economic Powers Act (50 U.S.C. 1701-1706), the President declared a national emergency with respect to persons who commit, threaten to commit, or support terrorism. The authority for part 730 of the EAR rests in part on that executive order and the annual notices continuing the international emergency declared therein. This rule also revises the authority citations paragraphs to part 730 of the EAR (15 CFR part 730) to include citations to the President's Notice of September 11, 2012—Continuation of the National Emergency With Respect to Persons Who Commit, Threaten To Commit, or Support Terrorism (77 FR 56519, September 12, 2012), which is the most recent such annual notice.

On January 25, 1995, by Executive Order 12947 (60 FR 5079, 3 CFR, 1995 Comp., p. 356), the President declared a national emergency with respect to the unusual and extraordinary threat to the national security, foreign policy and economy of the United States posed by grave acts of violence committed by terrorists who threaten to disrupt the Middle East process. On August 20, 1998, by Executive Order 13099 (63 FR 45167, 3 CFR, 1998 Comp., p. 208), the President modified the Annex to Executive Order 12947 to identify four additional persons who threaten to disrupt the Middle East peace process. On February 16, 2005, by Executive Order 13372, the President clarified the steps taken in Executive Order 12947. The national emergency declared in Executive Order 12947 has been continued in effect through successive annual presidential notices. The authority for Parts 730 and 744 of the EAR (15 CFR parts 730 and 744) rests in part on Executive Order 12947, as amended and clarified, and on the successive annual notices continuing the emergency declared in that Executive Order. This rule revises the authority citation paragraphs in those parts of the CFR to include a citation to the President's Notice of January 17, 2013 (Continuation of the National Emergency With Respect to Terrorists Who Threaten to Disrupt the Middle East Peace Process (78 FR 4303, January 22, 2013), which is the most recent such annual Presidential notice.

Corrections

This final rule updates seventeen parts of the EAR to correct spelling and typographical errors, inaccurate internal references, and incorrect paragraph designations.

This rule amends the EAR to update the mailing address for the Bureau of Industry and Security (BIS). The BIS mailroom is no longer Room 2705. Mail for BIS should now be directed to Room 2099B. Consistent with this room change, this rule makes seventeen changes in chapter VII, subchapter C of title 15 of the Code of Federal Regulations, the Export Administration Regulations (EAR). Specifically, this rule changes all references to “Room 2705”, “Room H2705”, or “Room H 2705”, wherever they appear in chapter VII, subchapter C, to the corrected “Room 2099B”.

Part 730

This rule corrects an error in Supplement No. 1 to Part 730 of the EAR that was in a final rule published by BIS on March 22, 2005 (70 FR 14385, 14386). The March 22, 2005 rule contained typographical and formatting errors in the title of the Information Collection under OMB Control Number 0694-0102. To correct these errors, this rule restates the title, “Registration of U.S. Agricultural Commodities For Exemption From Short Supply Limitations on Export, and Petitions For The Imposition of Monitoring Or Controls On Recyclable Metallic Materials; Public Hearings” to remove extraneous quotation marks and correct spelling and capitalization errors.

This rule updates Supplement No. 3 to Part 730 of the EAR with the correct contact information for the Directorate of Defense Trade Controls. More specifically, Supplement No. 3 to Part 730 is modified to remove the outdated telephone and facsimile numbers for the Directorate of Defense Trade Controls and insert the correct telephone and facsimile numbers and the Web site address: telephone (202) 663-2700, facsimile (202) 261-8695, and Web site http://www.pmddtc.state.gov/index.html. This change ensures that all information in Supplement 3 to Part 730 is correct and useful as reference information.

Part 732

This rule updates part 732 of the EAR by modifying the title for Supplement No. 2 to Part 732 to “SUPPLEMENT NO. 2 TO PART 732—SUBJECT TO THE EAR?” This change will make the title more applicable to Supplement No. 2.

Part 734

This rule updates Supplement No. 2 to Part 734 of the EAR to remove duplicative and potentially confusing information in the address for submission of required reports. More specifically, paragraph (b)(2)(iii) incorrectly lists the address for the BIS Regulatory Policy Division. Paragraph (b)(2)(iii) is modified to read “U.S. Department of Commerce, Bureau of Industry and Security, Regulatory Policy Division, 14th and Pennsylvania Avenue NW., Room 2099B, Washington, DC 20230.” This change removes the duplicative use of “Regulatory Policy Division” in the address, updates the room number, and ensures that the address block is correct.

Part 736

This rule updates Supplement No. 1 to Part 736 of the EAR by reformatting and renumbering the supplement to conform to CFR paragraph structure and to include headers for each of the General Orders. More specifically, Supplement No. 1 to Part 736 is modified by adding proper paragraph structure and inserting the header “General Order No. 1,” “General Order No. 2,” and “General Order No. 4” before each applicable paragraph. This change will make this part of the EAR easier to understand and more useful.

Part 740

This rule corrects a typographical error in Supplement No. 1 to Part 740 that was in a final rule published by BIS on August 5, 1997 (62 FR 42047, 42049). The August 5, 1997 rule incorrectly spelled Tajikistan as “Tajikstan” in Country Group D. To correct this error, this rule removes the word “Tajikstan” and replaces it with the word “Tajikistan” in the Country column for the Country Group D chart on Supplement No. 1 to Part 740.

Part 742

This rule corrects a grammatical error in § 742.9 of the EAR to create proper subject/verb agreement. More specifically, the word “is” at paragraph (b)(1)(ii) is removed and the word “are” is inserted in its place. This change ensures that § 742.9 is clear and that users can understand its requirements.

This rule corrects a grammatical error in § 742.10 of the EAR to create proper subject/verb agreement. More specifically, the word “is” at paragraph (b)(1)(ii) is removed and the word “are” is inserted in its place. This change ensures that § 742.10 is clear and that users can understand its requirements.

This rule corrects § 742.17 of the EAR for a formatting error in a final rule published by BIS on April 13, 2009 (64 FR 17968, 17973) by renumbering the footnotes in part 742 in sequential order. More specifically, the footnote in § 742.17 is renumbered from “1” to “2” as footnote number 1 appears in § 742.10. This change corrects an oversight whereby the footnote was added, but was numbered “1” as it was the only footnote to part 742 appearing in that Federal Register Notice.

Part 744

This rule corrects a formatting error in Supplement No. 2 to Part 744 as published by BIS on June 19, 2007 (72 FR 33646, 33658). The June 19, 2007 rule numbered the paragraphs in Category 3 out of order. Specifically, the second paragraph was numbered (iii) and the third paragraph was numbered (ii). To correct this error, this rule renumbers the paragraphs of Category 3 in sequential order.

Part 748

This rule corrects a reference error in § 748.2 of the EAR as published by BIS on July 11, 2011 (76 FR 40602, 40604), which contained an error in the amendatory text paragraphs (a)(2) and (a)(3). Specifically, the rule erroneously identified the Northern California Branch as being in Irvine rather than San Jose. This rule corrects this error, by amending the address blocks thereby ensuring that BIS offices are properly identified.

This rule corrects a typographical error in Supplement 4 to Part 748 of the EAR as published by BIS on March 25, 1996 (61 FR 12714, 12826). The March 25, 1996 rule contained a typographical error for the address of the Ministere de l'Economie et des Finances, Direction Generale des Douanes et Droits Indirects, Division des Affaires Juridiques et Contentieuses. Specifically, the rule misidentified “Paris Cedex 9” as “Paris Codex 9”. This rule corrects this error, by amending the address block and thereby ensuring that the IC/DV Authority in France is properly identified.

Part 752

This rule corrects a grammatical error in § 752.11 of the EAR. Specifically, paragraphs (c)(1) through (c)(15) consist of a list of the elements of an Internal Control Program, and the word “and” is not included prior to the last item in the list. This rule corrects this error by adding the word “and” at the end of paragraph (c)(14).

This rule corrects a reference error in the title of Supplement No. 2 to Part 752 as published by BIS on April 24, 2006 (71 FR 20876, 20886). The April 24, 2006 rule incorrectly identified Supplement No. 2 to Part 752 as “Instructions for Completing Form BIS-748P-B, `Item Annex' ”. However, the correct form number for the “Item Annex” is Form BIS-748P-A. This rule corrects this error by removing the word “BIS-748P-B” and inserting the word “BIS-748P-A” in its place.

This rule corrects a reference error in Supplement No. 5 to Part 752 as published by BIS on May 9, 1997 (62 FR 25451, 25467). The May 9, 1997 rule incorrectly identified Supplement No. 5 to Part 752 as “Instructions for Completing Form BIS-748-B, End-User Appendix”. However, the correct form number for the “End-User Appendix” is Form BIS-748P-B. This rule corrects this error by removing the word “BIS-748-B” and inserting the word “BIS-748P-B” in its place.

Part 754

This rule corrects a typographical error in § 754.4 of the EAR as published by BIS on September 22, 2003 (68 FR 50470, 50473). The September 22, 2003 rule contained a typographical error in the amendatory instructions for paragraph (d)(3)(ii). Specifically, the rule used the word “of” in the phrase “Shipper's Export Declaration of Automated Export System record” rather than the word “or”. Additionally, the Shipper's Export Declaration (SED) is no longer a valid method of reporting export information, so the reference to the SED is removed to update the EAR. This rule corrects this error by removing “Shipper's Export Declaration or” and adding in its place “The” in paragraph (d)(3)(ii).

This rule corrects Supplement No. 3 to Part 754 for an error in a final rule published by BIS on March 25, 1996 (61 FR 12714, 12844). The March 25, 1996 rule contained a typographical error, listing the citation to the National Emergencies Act as “() U.S.C. 1601 et seq.).” To correct this error, the incorrect citation is removed and the correct citation “(50 U.S.C. 1601 et seq.)” is inserted in its place.

Part 756

This rule corrects an error in § 756.1 of the EAR as published by BIS on March 25, 1996 (61 FR 12714, 12851). The March 25, 1996 rule incorrectly left the word “Definitions” in paragraph (b) when the section was reserved. This rule corrects this error by removing the word “Definitions” from paragraph (b).

Part 758

This rule revises § 758.2 of the EAR. Paragraphs (d)(1) and (d)(2) contain contact information for the U.S. Census Bureau and Bureau of Industry and Security. This rule inserts the word “telephone:” before the first phone number in each paragraph. This change will improve the readability of § 758.2.

This rule corrects a grammatical error in § 758.7 of the EAR as published by BIS on August 21, 2003 (68 FR 50470, 50474). The August 21, 2003 rule incorrectly contained the word “to” rather than the word “of” in the phrase “and officials to the Office of Export Enforcement” of paragraph (b)(6). Additionally, the Shipper's Export Declaration is no longer a valid method of reporting export information, so the reference to the SED is removed to update the EAR. This rule removes the word “to” and inserts the word “of” in its place and removes the phrase “SED or” in two places in paragraph (b)(6).

Part 760

This rule revises Supplement No. 1 to Part 760 of the EAR to update the required notary seal blocks. Paragraphs (I)(A), (I)(B), and (I)(C) contain certifications that are related to boycott activities. These certifications contain signature and notary blocks that include the first two digits of the year. These digits are currently 19, so to update the regulations for the 21st century 19 is changed to 20. This change will keep the regulations current.

Part 762

This rule corrects a citation error in § 762.1 of the EAR as published by BIS on March 25, 1996 (61 FR 12714, 12900). The March 25, 1996 rule, at paragraph (b), directed that records shall be produced “in a manner provided by § 762.6 of this part.” However, instructions for the production of records required to be maintained by part 762 are contained in § 762.7. To correct this error, this rule modifies the language of paragraph (b) to “in a manner provided by § 762.7 of this part.”

This rule corrects a reference error in § 762.2 of the EAR. Paragraph (b)(7) identifies “Supplement No. 3 to Part 742 High Performance Computers; Safeguards and related Information” which was removed from the EAR and reserved by a final rule published by BIS on April 21, 2006 (71 FR 20876, 20885). The April 21, 2006 rule moved the requirement for a security safeguard plan to paragraph (c)(2) of Supplement No. 2 to Part 748, but did not revise the reference in paragraph (b)(7). To correct this error, this rule removes the language “Supplement No. 3 to part 742 High Performance Computers; Safeguards and related Information” from paragraph (b)(7) and inserts the language “Supplement No. 2 to Part 748 paragraph (c)(2), Security Safeguard Plan requirement” in its place.

This rule revises § 762.2 of the EAR to correct an error. Paragraph (b)(9) identifies “§ 740.7, Humanitarian donations (NEED)” which was renumbered and revised by a final rule published by BIS on December 4, 1996 (61 FR 64272, 20885). The December 4, 1996 rule did not revise the reference in paragraph (b)(9). To correct this error, this rule removes the language “§ 740.7, Humanitarian donations (NEED)” and inserts the language “§ 740.12, Humanitarian donations (GFT)” in its place.

This rule revises § 762.2 of the EAR to correct an error. Paragraph (b)(12) identifies “§ 748.4(a), Disclosure and substantiation of facts on license applications” which was revised by a final rule published by BIS on July 10, 2000 (65 FR 42565, 42569). The July 10, 2000 rule did not revise the reference in paragraph (b)(12). To correct this error, this rule removes the language “§ 748.4(a), Disclosure and substantiation of facts on license applications” and inserts the language “§ 748.4(b), Disclosure of parties on license applications and the power of attorney” in its place.

This rule revises § 762.2 of the EAR to correct an error. Paragraph (b)(15) identifies “§ 748.10, Import and End-user Certificates” which was revised by a final rule published by BIS on June 19, 2007 (72 FR 33646, 33659). The June 19, 2007 rule did not revise the reference in paragraph (b)(15). To correct this error, this rule removes the language “§ 748.10, Import and End-user Certificates” and inserts the language “§ 748.10, Import Certificates and End-User Statements” in its place.

This rule revises § 762.2 of the EAR to correct an error. Paragraph (b)(18) identifies “§ 748.2(c), Obtaining forms; mailing addresses” which was removed by a final rule published by BIS on August 21, 2008 (73 FR 49323, 49330). The August 21, 2008 rule did not revise the reference in paragraph (b)(18). To correct this error, this rule removes the language “§ 748.2(c), Obtaining forms; mailing addresses” and inserts the language “§ 748.1(d)(2), Procedure for requesting authorization to file paper applications, notifications, or requests” in its place.

This rule revises § 762.2 of the EAR to correct an error. Paragraph (b)(31) identifies “§ 754.2(j)(3), Recordkeeping requirements for deep water ballast exchange” which was moved by a final rule published by BIS on July 11, 2001 (76 FR 40602, 40604) to § 754.2(j)(2). The July 11, 2001 rule did not revise the reference in paragraph (b)(18). To correct this error, this rule removes the language “§ 754.2(j)(3), Recordkeeping requirements for deep water ballast exchange” and inserts the language “§ 754.2(j)(2), Recordkeeping requirements for deep water ballast exchange” in its place.

This rule revises § 762.2 of the EAR to correct an error. Paragraph (b)(34) identifies “§ 758.1 and § 758.2, Shipper's Export Declaration or Automated Export System record.” The Shipper's Export Declaration is no longer a valid method of reporting export information, so the reference is removed to update the EAR. This rule removes “Shipper's Export Declaration or” from paragraph (b)(34).

This rule revises § 762.2 of the EAR to correct an error. Paragraph (b)(36) identifies “§ 760.6, Restrictive Trade Practices and Boycotts” in error. A final rule published by BIS on March 25, 1996 (61 FR 12714, 12891) identified § 760.6 when that rule set out part 760 in its entirety and did not include § 760.6. The reporting requirements of part 760 are included in § 760.5, so to correct the error, this rule removes the language “§ 760.6, Restrictive Trade Practices and Boycotts” and inserts the language “§ 760.5, Reporting requirements” in its place.

This rule revises § 762.2 of the EAR to correct an error. Paragraph (b)(45), identifying “§ 758.2(c), Assumption writing; and”, was added by a final rule published by BIS on July 10, 2000 (65 FR 42565, 42573). The July 10, 2000 rule incorrectly identified § 758.2(c) as the location of the written assumption requirement, rather than § 758.3(b). To correct this error, this rule removes the language “§ 758.2(c), Assumption writing” and inserts the language “§ 758.3(b), Routed Export Transactions;” in its place.

This rule revises § 762.2 to make it easier to understand. The subparagraphs of paragraph (b) are reordered in sequence by citation.

Part 764

This rule revises § 764.3 of the EAR to correct an error. The heading to paragraph (a)(1) was to be revised to read “Civil Monetary Penalty” by a final rule published by BIS on August 4, 2006 (71 FR 44189, 44190); however the rule did not contain an amendatory instruction identifying the revision to the heading. To correct this error, this rule revises the heading to read “Civil Monetary Penalty.”

Part 772

This rule revises part 772 to update the reference to the Web site for the Automated Export System. The definition of “Automated Export System (AES)” includes a reference to the former AES Web site, “http://www.customs.ustreas.gov/impoexpo/abaesint.htm.” Additionally, the Shipper's Export Declaration is no longer a valid method of reporting export information, so the reference to the SED is removed to update the EAR. To keep the information in the EAR up to date, this rule updates the Web site address by removing the reference “http://www.customs.ustreas.gov/impoexpo/abaesint.htm” and replacing it with “http://www.census.gov/foreign-trade/aes/index.html” in the definition of “Automated Export System (AES)” and removing the reference to the paper filing of the SED.

This rule amends part 772 of the EAR by revising the spelling of the word “signaling” to ensure a uniform spelling is used throughout the EAR. The word “signaling” is spelled two ways throughout the EAR. The British spelling of “signalling” is used in the definition of “Data signalling rate” in part 772, consistent with the text of that definition in the Wassenaar Arrangement. The American spelling “signaling” is used elsewhere in the EAR, including the use of that defined term in the applicable ECCNs. All of the definitions in the Wassenaar Arrangement that contain the word “signalling” were removed as of December 14, 2011. Therefore, in adopting a uniform spelling throughout the EAR, the American spelling is to be used. The spelling of the word “signalling” in the definition of “Data signalling rate” in part 772 will be revised to “signaling” at two occurrences.

This rule corrects an error in part 772 of the EAR as published by BIS on February 18, 2005 (70 FR 8245, 8250). The February 18, 2005 rule contained the incorrect spellings of Kazakhstan and Tajikistan in the definition of “Controlled country” at part 772. To correct this error, this rule removes the words “Kazakstan” and “Tajikstan” from the definition of “Controlled country” in part 772 and inserts words “Kazakhstan” and “Tajikistan” in alphabetic order.

This rule corrects a citation error in part 772 of the EAR as published by BIS on March 25, 1996 (61 FR 12714, 12930). The March 25, 1996 rule contained a typographical error in the definition of “General Prohibitions” in part 772. Specifically, the rule misidentified the location of the General Prohibitions in the EAR as part 734 of the EAR, rather than part 736 of the EAR. This rule corrects this error, by removing the citation “734” and inserting the citation “736” in its place.

This rule corrects an incorrect reference in part 772 of the EAR to update the name of the Directorate of Defense Trade Controls. The definition of “Missile Technology Control Regime (MTCR)” in part 772 incorrectly refers to the “Department of State's Office of Defense Trade Controls” rather than the “Department of State's Directorate of Defense Trade Controls.” This rule corrects this error, by removing the words “Office of Defense Trade Controls” and inserting the words “Directorate of Defense Trade Controls” in its place. In order to harmonize the Department of Commerce reference with the Department of State reference, this rule adds a reference to BIS. In addition, as this definition speaks to where the controls for items specified on the MTCR Annex reside, this rule adds references to the EAR and International Traffic in Arms Regulations (ITAR).

This rule corrects part 772 of the EAR for an error in the final rule that was published by BIS on March 25, 1996 (61 FR 12714, 12939). The March 25, 1996 rule contained a typographical error in the definition of “Superalloy” at part 772. Specifically, the rule transposed two digits in the Celsius temperature translation from Kelvin, listing “694 degrees C” rather than “649 degrees C”. The use of the word degrees in place of the symbol “°” in a temperature description is also inconsistent with the remainder of the EAR and the Wassenaar Arrangement. This rule corrects these errors, by removing the phrase “694 degrees C” and inserting the phrase “649° C” in its place.

This rule corrects a typographical error in part 772 of the EAR as published by BIS on March 25, 1996 (61 FR 12714, 12940). The March 25, 1996 rule contained an error in the definition of “Transfer laser” in part 772. Specifically, the rule included the word “lasting” instead of the word “lasing.” This rule corrects this error, by removing the word “lasting” and inserting the word “lasing” in its place.

Although the Export Administration Act expired on August 20, 2001, the President, through Executive Order 13222 of August 17, 2001, 3 CFR, 2001 Comp., p. 783 (2002), as extended by the Notice of August 15, 2012, 77 FR 49699 (August 16, 2012), has continued the EAR in effect under the International Emergency Economic Powers Act. BIS continues to carry out the provisions of the Export Administration Act, as appropriate and to the extent permitted by law, pursuant to Executive Order 13222.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been designated a “not significant regulatory action,” under section 3(f) of Executive Order 12866.

2. The Department finds that there is good cause under 5 U.S.C. 553(b)(3)(B) to waive the provisions of the Administrative Procedure Act requiring prior notice and the opportunity for public comment because they are unnecessary. The revisions made by this rule are administrative, not substantive, in nature and do not affect the rights and obligations of the public. Because these revisions are not substantive changes to the EAR, it is unnecessary to provide prior notice and opportunity for public comment. In addition, the 30-day delay in effectiveness required by 5 U.S.C. 553(d) is not applicable because this rule is not a substantive rule. As stated above, these revisions do not alter any rights or obligations, but merely correct typographical and organizational errors in the EAR. As a result, no benefit would be gained by delaying this rule's effectiveness for 30 days. This final rule is exempt from the analytical requirements of the Regulatory Flexibility Act (5 U.S.C. 601 et. seq.) because no general notice of proposed rulemaking was required for this rule.

List of Subjects

15 CFR Part 730, 732, 734, 742, 743, 758, 760, 762, and 764

Administrative practice and procedure, Reporting and recordkeeping requirements.

15 CFR Parts 736, 745, and 756

Administrative practice and procedure.

15 CFR Part 740, 744, 748, 752, 754, and 772

Administrative practice and procedure, Exports, Reporting and recordkeeping requirements.

Accordingly, parts 730, 732, 734, 736, 740, 742, 743, 744, 745, 748, 752, 754, 756, 758, 760, 762, 764, and 772 of the EAR (15 CFR Parts 730-774) are amended as follows:

PART 730—[AMENDED]

1. The authority citation for part 730 is revised to read as follows:

Authority: Authority: 50 U.S.C. app. 2401 et seq.; 50 U.S.C. 1701 et seq.; 10 U.S.C. 7420; 10 U.S.C. 7430(e); 22 U.S.C. 287c; 22 U.S.C. 2151 note; 22 U.S.C. 3201 et seq.; 22 U.S.C. 6004; 30 U.S.C. 185(s), 185(u); 42 U.S.C. 2139a; 42 U.S.C. 6212; 43 U.S.C. 1354; 15 U.S.C. 1824a; 50 U.S.C. app. 5; 22 U.S.C. 7201 et seq.; 22 U.S.C. 7210; E.O. 11912, 41 FR 15825, 3 CFR, 1976 Comp., p. 114; E.O. 12002, 42 FR 35623, 3 CFR, 1977 Comp., p. 133; E.O. 12058, 43 FR 20947, 3 CFR, 1978 Comp., p. 179; E.O. 12214, 45 FR 29783, 3 CFR, 1980 Comp., p. 256; E.O. 12851, 58 FR 33181, 3 CFR, 1993 Comp., p. 608; E.O. 12854, 58 FR 36587, 3 CFR, 1993 Comp., p. 179; E.O. 12918, 59 FR 28205, 3 CFR, 1994 Comp., p. 899; E.O. 12938, 59 FR 59099, 3 CFR, 1994 Comp., p. 950; E.O. 12947, 60 FR 5079, 3 CFR, 1995 Comp., p. 356; E.O. 12981, 60 FR 62981, 3 CFR, 1995 Comp., p. 419; E.O. 13020, 61 FR 54079, 3 CFR, 1996 Comp., p. 219; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; E.O. 13338, 69 FR 26751, 3 CFR, 2004 Comp., p 168; Notice of May 9, 2012, 77 FR 27559 (May 10, 2012); Notice of August 15, 2012, 77 FR 49699 (August 16, 2012); Notice of September 11, 2012, 77 FR 56519 (September, 12, 2012) ; Notice of November 1, 2012, 77 FR 66513 (November 5, 2012); Notice of January 17, 2013, 78 FR 4303 (January 22, 2013).

Supplement No. 1 to Part 730—[Amended]

2. Supplement No. 1 to Part 730, the title entry in the row for collection number 0694-0102 is revised to read as follows “Registration of U.S. Agricultural Commodities For Exemption From Short Supply Limitations on Export, and Petitions For The Imposition of Monitoring Or Controls On Recyclable Metallic Materials; Public Hearings”.

Supplement No. 2 to Part 730—[Amended]

3. Supplement No. 2 to Part 730 is amended by removing the phrase “Room 2705” from paragraph (b)(1) and adding the phrase “Room 2099B” in its place.

Supplement No. 3 to Part 730—[Amended]

4. Supplement No. 3 to Part 730 is amended by revising the “Defense Services and Defense Articles” section to read as follows:

Supplement No. 3 to Part 730—Other U.S. Government Departments and Agencies With Export Control Responsibilities

* * * * *

Defense Services and Defense Articles

*Department of State, Directorate of Defense Trade Controls, Tel. (202) 663-2700, Fax: (202) 261-8695, Internet: http://www.pmddtc.state.gov/index.html.

* * * * *

PART 732—[AMENDED]

5. The authority citation for part 732 continues to read as follows:

Authority: 50 U.S.C. app. 2401 et seq.; 50 U.S.C. 1701 et seq.; E.O. 13026, 61 FR 58767, 3 CFR, 1996 Comp., p. 228; E.O. 13222, 66 FR 44025, 3 CFR, 2001 Comp., p. 783; Notice of August 15, 2012, 77 FR 49699 (August 16, 2012).

Supplement No. 2 to Part 732—[Amended]

6. Supplement No. 2 to Part 732 is amended by revising the title of the supplement to read as follows:

Supplement No. 2 to Part 732—Subject to the Ear?

* * * * *

PART 734—[AMENDED]

7. The authority citation for part 734 is revised to read as follows:

Authority: 50 U.S.C. app. 2401 et seq.; 50 U.S.C. 1701 et seq.; E.O. 12938, 59 FR 59099, 3 CFR, 1994 Comp., p. 950; E.O. 13020, 61 FR 54079, 3 CFR, 1996 Comp., p. 219; E.O. 13026, 61 FR 58767, 3 CFR, 1996 Comp., p. 228; E.O. 13222, 66 FR 44025, 3 CFR, 2001 Comp., p. 783; Notice of August 15, 2012, 77 FR 49699 (August 16, 2012); Notice of November 1, 2012, 77 FR 66513 (November 5, 2012).

Supplement No. 1 to Part 734—[Amended]

8. Supplement No. 1 to Part 734 is amended by removing the phrase “Room 2705” from the Answer to Question (D)(3) and adding the phrase “Room 2099B” in its place.

Supplement No. 2 to Part 734—[Amended]

9. Supplement No. 2 to Part 734 is amended by revising paragraph (b)(2)(iii) to read as follows:

Supplement No. 2 to Part 734—Guidelines for De Minimis Rules

* * * * *

(b) * * *

(2) * * *

(iii) Mail or Hand Delivery/Courier: U.S. Department of Commerce, Bureau of Industry and Security, Regulatory Policy Division, 14th and Pennsylvania Avenue NW., Room 2099B, Washington, DC 20230.

* * * * *

PART 736—[AMENDED]

10. The authority citation for part 736 is revised to read as follows:

Authority: 50 U.S.C. app. 2401 et seq.; 50 U.S.C. 1701 et seq.; 22 U.S.C. 2151 note; E.O. 12938, 59 FR 59099, 3 CFR, 1994 Comp., p. 950; E.O. 13020, 61 FR 54079, 3 CFR, 1996 Comp., p. 219; E.O. 13026, 61 FR 58767, 3 CFR, 1996 Comp., p. 228; E.O. 13222, 66 FR 44025, 3 CFR, 2001 Comp., p. 783; E.O. 13338, 69 FR 26751, 3 CFR, 2004 Comp., p. 168; Notice of May 9, 2012, 77 FR 27559 (May 10, 2012); Notice of August 15, 2012, 77 FR 49699 (August 16, 2012); Notice of November 1, 2012, 77 FR 66513 (November 5, 2012).

11. Supplement No. 1 to Part 736 is revised to read as follows:

Supplement No. 1 to Part 736—General Order

(a) General Order No. 1:

General Order No. 1 of September 16, 1998; Establishing a 24-month validity period on reexport authorizations issued without a validity period and revoking those exceeding that period.

(1) Reexport authorizations issued within 24-months of the General Order. All reexport authorizations issued with no validity period within the 24-months preceding September 16, 1998 shall be deemed to have an expiration date which shall be the date 24-months from the date of issuance of the reexport authorization or November 16, 1998, whichever is longer.

(2) Reexport authorizations issued before the 24-month period preceding the General Order. For reexport authorizations issued with no validity period before the 24-month period preceding September 16, 1998:

(i) Effective September 16, 1998, all such outstanding reexport authorizations for terrorist-supporting countries (see parts 742 and 746 of the EAR) are revoked.

(ii) Effective November 16, 1998, all other such outstanding reexport authorizations are revoked.

(3) Extensions. If necessary, you may request extensions of such authorizations according to procedures set forth in § 750.7(g) of the EAR.

(4) Specific Notice from BIS. If you have received, or should you receive, specific notice from BIS with regard to a reexport authorization covered by this General Order, informing you of a revocation, suspension, or revision (including validity period) of any such reexport authorization, then the terms of that specific notice will be controlling.

(5) Definition of “authorization”. The term “authorization” as used in this General Order encompasses the range of reexport authorizations granted by BIS, which includes licenses, individual letters, and other types of notifications.

(b) General Order No. 2:

General Order No. 2; section 5(b) of the Syria Accountability and Lebanese Sovereignty Restoration Act of 2003 (SAA) gives the President authority to waive the application of certain prohibitions set forth in the SAA if the President determines that it is in the national security interest of the United States to do so. The President made such a determination in Executive Order 13338, finding that it was “in the national security interest of the United States to waive application of subsection 5(a)(1) and 5(a)(2)(A) of the SAA so as to permit the exportation or reexportation of certain items as specified in the Department of Commerce's General Order No. 2.” The President's reference to General Order No. 2 addresses applications to export and reexport the following items, which are considered on a case-by-case basis as opposed to the general policy of denial set forth in section 746.9 of the Regulations: Items in support of activities, diplomatic or otherwise, of the United States Government (to the extent that regulation of such exportation or reexportation would not fall within the President's constitutional authority to conduct the nation's foreign affairs); medicine (on the CCL) and medical devices (both as defined in part 772 of the EAR); parts and components intended to ensure the safety of civil aviation and the safe operation of commercial passenger aircraft; aircraft chartered by the Syrian Government for the transport of Syrian Government officials on official Syrian Government business; telecommunications equipment and associated computers, software and technology; and items in support of United Nations operations in Syria. The total dollar value of each approved license for aircraft parts for flight safety normally will be limited to no more than $2 million over the 24-month standard license term, except in the case of complete overhauls.

Note to General Order No. 2: The controls for exports and reexports to Syria are set forth in § 746.9 of the EAR.

(c) General Order No. 3 [Reserved]

(d) General Order No. 4:

General Order No. 4 of June 13, 2008, as amended on September 3, 2009, amending existing licenses for exports of consolidated gift parcels to Cuba due to changes in License Exception GFT.

(1) Section 740.12(a) of the EAR authorizes, among other things, certain exports of gift parcels to Cuba pursuant to a license exception. However, consolidated shipments of multiple gift parcels to Cuba require a license even if all of the individual items within the consolidated gift parcel would be eligible for this license exception if shipped alone.

(2) Notwithstanding any statements to the contrary on the license itself, licenses authorizing the export to Cuba of consolidated gift parcels described in paragraph (a) of this order that are valid on September 3, 2009 authorize the export of consolidated shipments to Cuba of gift parcels that comply with the requirements of License Exception GFT found in § 740.12(a) of the EAR as of September 3, 2009.

(3) This General Order does not change any of the other terms (including total value of items that may be exported or expiration date) of the licenses it affects.

PART 740—[AMENDED]

12. The authority citation for part 740 continues to read as follows:

Authority: 50 U.S.C. app. 2401 et seq.; 50 U.S.C. 1701 et seq.; 22 U.S.C. 7201 et seq.; E.O. 13026, 61 FR 58767, 3 CFR, 1996 Comp., p. 228; E.O. 13222, 66 FR 44025, 3 CFR, 2001 Comp., p. 783; Notice of August 15, 2012, 77 FR 49699 (August 16, 2012).

§ 740.17 [Amended]

13. Section 740.17 is amended by removing the phrase “Room 2705” from paragraph (e)(1)(ii)(A) and adding the phrase “Room 2099B” in its place.

Supplement No. 1 to Part 740—[Amended]

14. Supplement No. 1 to Part 740 is amended by removing the word “Tajikstan” from the Country Column of the Country Group D chart and adding in its place “Tajikistan”.

PART 742—[AMENDED]

15. The authority citation for part 742 is revised to read as follows:

Authority: 50 U.S.C. app. 2401 et seq.; 50 U.S.C. 1701 et seq.; 22 U.S.C. 3201 et seq.; 42 U.S.C. 2139a; 22 U.S.C. 7201 et seq.; 22 U.S.C. 7210; Sec. 1503, Pub. L. 108-11, 117 Stat. 559; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13222, 66 FR 44025, 3 CFR, 2001 Comp., p. 783; Presidential Determination 2003-23 of May 7, 2003, 68 FR 26459, May 16, 2003; Notice of August 15, 2012, 77 FR 49699 (August 16, 2012); Notice of November 1, 2012, 77 FR 66513 (November 5, 2012).

16. Section 742.9 is amended by revising paragraph (b)(1)(ii) to read as follows:

§ 742.9 Anti-terrorism: Syria.

* * * * *

(b) * * *

(1) * * *

(ii) Military-related items controlled for national security reasons to any destination. These are items that contain NS Column 1 in the Country Chart column of the “License Requirements” section in an ECCN on the CCL and are controlled by equipment or material entries ending in the number “18.”

* * * * *

17-18. Section 742.10 is amended by revising paragraph (b)(1)(ii) to read as follows:

§ 742.10 Anti-terrorism: Sudan.

* * * * *

(b) * * *

(1) * * *

(ii) Military-related items controlled for national security reasons to any destination. These are items that contain NS Column 1 in the Country Chart column of the “License Requirements” section in an ECCN on the CCL and are controlled by equipment or material entries ending in the number “18.”

* * * * *

§ 742.15 [Amended]

19. Section 742.15 is amended by removing the phrase “Room 2705” from paragraph (c)(2)(ii)(A) and adding the phrase “Room 2099B” in its place.

§ 742.17 [Amended]

20. Section 742.17 is amended by redesignating footnote 1 in paragraph (a) as footnote 2 in the text of paragraph (a) and in the text of the footnote.

PART 743—[AMENDED]

21. The authority citation for part 743 continues to read as follows:

Authority: 50 U.S.C. app. 2401 et seq.; 50 U.S.C. 1701 et seq.; E.O. 13222, 66 FR 44025, 3 CFR, 2001 Comp., p. 783; Notice of August 15, 2012, 77 FR 49699 (August 16, 2012).

§ 743.1 [Amended]

22. Section 743.1 is amended in paragraph (g)(1) by removing the phrase “Room 2705” and adding the phrase “Room 2099B” in its place.

PART 744—[AMENDED]

23. The authority citation for part 744 is revised to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 15, 2012, 77 FR 49699 (August 16, 2012); Notice of September 11, 2012, 77 FR 56519 (September 12, 2012); Notice of November 1, 2012, 77 FR 66513 (November 5, 2012); Notice of January 17, 2013, 78 FR 4303 (January 22, 2013).

Supplement No. 2 to Part 744—[Amended]

24. Supplement No. 2 to Part 744 is amended by correcting the paragraph designation for (3)(iii) as (3)(ii) and the designation for (3)(ii) as (3)(iii).

PART 745—[AMENDED]

25. The authority citation for part 745 is revised to read as follows:

Authority: 50 U.S.C. 1701 et seq.; E.O. 12938, 59 FR 59099, 3 CFR, 1994 Comp., p. 950; Notice of November 1, 2012, 77 FR 66513 (November 5, 2012).

PART 748—[AMENDED]

26. The authority citation for part 748 continues to read as follows:

Authority: 50 U.S.C. app. 2401 et seq.; 50 U.S.C. 1701 et seq.; E.O. 13026, 61 FR 58767, 3 CFR, 1996 Comp., p. 228; E.O. 13222, 66 FR 44025, 3 CFR, 2001 Comp., p. 783; Notice of August 15, 2012, 77 FR 49699 (August 16, 2012).

§ 748.1 [Amended]

27. Section 748.1 is amended in paragraph (d)(2) by removing the phrase “Room H2705” and adding the phrase “Room 2099B” in its place.

28. Section 748.2 is amended by revising paragraphs (a)(2) and (3) to read as follows:

§ 748.2 Obtaining forms; mailing addresses.

(a) * * *

(2) Bureau of Industry and Security, Western Regional Office, U.S. Department of Commerce, 2302 Martin St., Suite 330, Irvine, CA 92612, Tel: (949) 660-0144, Fax: (949) 660-9347, or

(3) Bureau of Industry and Security, Western Regional Office, Northern California Branch, U.S. Department of Commerce, 160 W. Santa Clara Street, Suite 725, San Jose, CA 95113, Tel: (408) 998-8805 or (408) 998-8806, Fax: (408) 998-8677.

* * * * *

§ 748.13 [Amended]

29. Section 748.13 is amended in paragraph (c)(2) by removing the phrase “Room 2705” and adding the phrase “Room 2099B” in its place.

§ 748.15 [Amended]

30. Section 748.15 is amended in paragraphs (a)(1) and (f)(1)(ii) by removing the phrase “Room 2705” and adding the phrase “Room 2099B” in its place.

Supplement No. 4 to Part 748—[Amended]

31. Supplement No. 4 to Part 748 is amended in the address column of the France entry by removing the word “Codex” and adding in its place “Cedex”.

Supplement No. 5 to Part 748—[Amended]

32. Supplement No. 5 to Part 748 is amended in paragraph (a)(2)(i) by removing the phrase “Room 2705” and adding the phrase “Room 2099B” in its place.

PART 752—[AMENDED]

33. The authority citation for part 752 continues to read as follows:

Authority: 50 U.S.C. app. 2401 et seq.; 50 U.S.C. 1701 et seq.; E.O. 13020, 61 FR 54079, 3 CFR, 1996 Comp., p. 219; E.O. 13222, 66 FR 44025, 3 CFR, 2001 Comp., p. 783; Notice of August 15, 2012, 77 FR 49699 (August 16, 2012).

34. Section 752.11 is amended by revising paragraph (c)(14) to read as follows:

§ 752.11 Internal Control Programs.

* * * * *

(c) * * *

(14) A system for assuring compliance with controls over exports and reexports for missile-related end-uses and end-users described in § 744.3 of the EAR; and

* * * * *

§ 752.17 [Amended]

35. Section 752.17 is amended by removing the phrase “Room 2705” and adding the phrase “Room 2099B” in its place.

36. Supplement 2 to Part 752 is amended by revising the heading to read as follows:

Supplement No. 2 to Part 752— Instructions for Completing Form BIS-748P-A, ”Item Annex”

* * * * *

37. Supplement 5 to Part 752 is amended by revising the heading to read as follows:

Supplement No. 5 to Part 752— Instructions for Completing Form BIS-748P-B, End-User Appendix

* * * * *

PART 754—[AMENDED]

38. The authority citation for part 754 continues to read as follows:

Authority: 50 U.S.C. app. 2401 et seq.; 50 U.S.C. 1701 et seq.; 10 U.S.C. 7420; 10 U.S.C. 7430(e); 30 U.S.C. 185(s), 185(u); 42 U.S.C. 6212; 43 U.S.C. 1354; 15 U.S.C. 1824a; E.O. 11912, 41 FR 15825, 3 CFR, 1976 Comp., p. 114; E.O. 13222, 66 FR 44025, 3 CFR, 2001 Comp., p. 783; Notice of August 15, 2012, 77 FR 49699 (August 16, 2012).

39. Section 754.4 is amended by revising paragraph (d)(3)(ii) to read as follows:

§ 754.4 Unprocessed western red cedar.

* * * * *

(d) * * *

(3) * * *

(ii) The Automated Export System record.

* * * * *

§ 754.6 [Amended]

40. Section 754.6 is amended in paragraph (c) by removing the phrase “Room 2705” and adding the phrase “Room 2099B” in its place.

§ 754.7 [Amended]

41. Section 754.7 is amended in paragraph (d) by removing the phrase “Room 2705” and adding the phrase “Room 2099B” in its place.

Supplement No. 3 to Part 754—[Amended]

42. Supplement No. 3 to Part 754 is amended in paragraph (3) in the “Public Law 104-58 Sec. 201 Exports of Alaskan North Slope Oil.” section by removing “() U.S.C. 1601 et seq.)” and adding in its place “(50 U.S.C. 1601 et seq.)”.

PART 756—[AMENDED]

43. The authority citation for part 756 continues to read as follows:

Authority: 50 U.S.C. app. 2401 et seq.; 50 U.S.C. 1701 et seq.; E.O. 13222, 66 FR 44025, 3 CFR, 2001 Comp., p. 783; Notice of August 15, 2012, 77 FR 49699 (August 16, 2012).

§ 756.1 [Amended]

44. Section 756.1 is amended by removing the subject heading to reserved paragraph (b).

PART 758—[AMENDED]

45. The authority citation for part 758 continues to read as follows:

Authority: 50 U.S.C. app. 2401 et seq.; 50 U.S.C. 1701 et seq.; E.O. 13222, 66 FR 44025, 3 CFR, 2001 Comp., p. 783; Notice of August 15, 2012, 77 FR 49699 (August 16, 2012).

46. Section 758.2 is amended by revising paragraphs (d)(1) and (2) to read as follows:

§ 758.2 Automated Export System (AES).

* * * * *

(d) * * *

(1) For additional information on the AES in general, please contact: Chief Foreign Trade Division, U.S. Census Bureau, telephone: (301) 457-2255, facsimile: (301) 457-2645.

(2) For information about BIS's Option 4 approval process to use AES Option 4 for items subject to the EAR, contact: Director, Office of Enforcement Analysis, Bureau of Industry and Security, telephone: (202) 482-4255, facsimile: (202) 482-0971.

§ 758.4 [Amended]

47. Section 758.4 is amended in paragraph (c) by removing the phrase “Room 2705” and adding the phrase “Room 2099B” in its place.

§ 758.5 [Amended]

48. Section 758.5 is amended in paragraph (e)(2)(ii) by removing the phrase “Room 2705” and adding the phrase “Room 2099B” in its place.

49. Section 758.7 is amended by revising the second sentence of paragraph (b)(6) to read as follows:

§ 758.7 Authority of the Office of Export Enforcement, the Bureau of Industry and Security, Customs offices and Postmasters in clearing shipments.

* * * * *

(b) * * *

(6) * * * In addition to the authority of Customs officers to seize and detain items, both Customs officials and officials of the Office of Export Enforcement are authorized to detain any shipment held for review of the AES record, or if there is no AES record, the bill of lading or other loading document covering the items about to be exported, or for physical inspection of the items, whenever such action is deemed to be necessary to assure compliance with the EAR.

* * * * *

PART 760—[AMENDED]

50. The authority citation for part 760 continues to read as follows:

Authority: 50 U.S.C. app. 2401 et seq.; 50 U.S.C. 1701 et seq.; E.O. 13222, 66 FR 44025, 3 CFR, 2001 Comp., p. 783; Notice of August 15, 2012, 77 FR 49699 (August 16, 2012).

Supplement No. 1 to Part 760—[Amended]

51. Supplement 1 to Part 760 is amended by removing the year reference “19__” and adding in its place “20__” in three (3) places in section 1.

PART 762—[AMENDED]

52. The authority citation for part 762 continues to read as follows:

Authority: 50 U.S.C. app. 2401 et seq.; 50 U.S.C. 1701 et seq.; E.O. 13222, 66 FR 44025, 3 CFR, 2001 Comp., p. 783; Notice of August 15, 2012, 77 FR 49699 (August 16, 2012).

§ 762.1 [Amended]

53. Section 762.1 is amended in paragraph (b) by removing the reference “§ 762.6” and adding in its place “§ 762.7”.

54. Section 762.2 is amended by revising paragraph (b) to read as follows:

§ 762.2 Records to be retained.

* * * * *

(b) Records retention references. Paragraph (a) of this section describes records that are required to be retained. Other parts, sections, or supplements of the EAR which require the retention of records or contain recordkeeping provisions, include, but are not limited to the following:

(1) § 732.6, Steps for other requirements;

(2) § 734.4(g), de minimis calculation (method);

(3) Part 736, General Prohibitions;

(4) § 740.1, Introduction (to License Exceptions);

(5) [RESERVED]

(6) § 740.10(c), Servicing and replacement of parts and equipment (RPL);

(7) [RESERVED]

(8) § 740.12, Humanitarian donations (GFT);

(9) § 740.13(f), Technology and software—unrestricted (TSU);

(10) [RESERVED]

(11) § 743.1, Wassenaar reports;

(12) § 743.2, High Performance Computers;

(13) [RESERVED]

(14) § 745.1, Annual reports;

(15) § 745.2, End-use certificates;

(16) § 746.3 Iraq;

(17) Part 747, Special Iraq Reconstruction License;

(18) § 748.1(d)(2), Procedure for requesting authorization to file paper applications, notifications, or requests;

(19) § 748.4(b), Disclosure of parties on license applications and the power of attorney;

(20) § 748.6, General instructions for license applications;

(21) § 748.9, Support documents for license applications;

(22) § 748.10, Import Certificates and End-User Statements;

(23) § 748.11, Statement by Ultimate Consignee and Purchaser;

(24) § 748.13, Delivery Verification (DV);

(25) § 748.14, Exports of firearms;

(26) Supplement No. 2 to Part 748 paragraph (c)(2), Security Safeguard Plan requirement;

(27) § 750.7, Issuance of license and acknowledgment of conditions;

(28) § 750.8, Revocation or suspension of license;

(29) § 750.9, Duplicate licenses;

(30) § 750.10, Transfer of licenses for export;

(31) § 752.7, Direct shipment to customers;

(32) § 752.9, Action on SCL applications;

(33) § 752.10, Changes to the SCL;

(34) § 752.11, Internal Control Programs;

(35) § 752.12, Recordkeeping requirements;

(36) § 752.13, Inspection of records;

(37) § 752.14, System reviews;

(38) § 752.15, Export clearance;

(39) § 754.2(j)(2), Recordkeeping requirements for deep water ballast exchange

(40) § 754.4, Unprocessed western red cedar;

(41) § 758.1 and § 758.2, Automated Export System record;

(42) § 758.1(h), Record and proof of agent's authority;

(43) § 758.3(b), Routed Export Transactions;

(44) § 758.6, Destination control statements;

(45) § 760.5, Reporting requirements;

(46) § 762.2, Records to be retained;

(47) § 764.2, Violations;

(48) § 764.5, Voluntary self-disclosure; and

(49) § 766.10, Subpoenas.

* * * * *

PART 764—[AMENDED]

55. The authority citation for part 772 continues to read as follows:

Authority: 50 U.S.C. app. 2401 et seq.; 50 U.S.C. 1701 et seq.; E.O. 13222, 66 FR 44025, 3 CFR, 2001 Comp., p. 783; Notice of August 15, 2012, 77 FR 49699 (August 16, 2012).

§ 764.3 [Amended]

56. Section 764.3 is amended by:

a. Revising the paragraph (a)(1) subject heading to read “Civil monetary penalty”; and

b. Removing from paragraph (a)(2) the phrase “Room H 2705” and adding the phrase “Room 2099B” in its place.

PART 772—[AMENDED]

57. The authority citation for part 772 continues to read as follows:

Authority: 50 U.S.C. app. 2401 et seq.; 50 U.S.C. 1701 et seq.; E.O. 13222, 66 FR 44025, 3 CFR, 2001 Comp., p. 783; Notice of August 15, 2012, 77 FR 49699 (August 16, 2012).

58. Section 772.1 is amended by revising the definitions of “Automated Export System (AES)”, “Controlled country”, “Data Signalling Rate”, “General Prohibitions”, “Missile Technology Control Regime (MTCR)”, “Superalloy”, and “Transfer laser” to read as follows:

§ 772.1 Definitions of terms as used in the Export Administration Regulations (EAR).

* * * * *

Automated Export System (AES). AES is a nationwide system operational at all ports and for all methods of transportation through which export shipment data required by multiple agencies is filed electronically to Customs, using the efficiencies of Electronic Data Interchange (EDI). AES allows the export information to be collected electronically and edited immediately. For more information about AES, visit the Bureau of Census Web site at: http://www.customs.ustreas.gov/impoexpo/abaesint.htm.

* * * * *

Controlled country. Countries designated controlled for national security purposes under authority delegated to the Secretary of Commerce by Executive Order 12214 of May 2, 1980 pursuant to section 5(b) of the EAA. The controlled countries are: Albania, Armenia, Azerbaijan, Belarus, Cambodia, Cuba, the People's Republic of China, Georgia, Iraq, Kazakhstan, Kyrgyzstan, Laos, Macau, Moldova, Mongolia, North Korea, Russia, Tajikistan, Turkmenistan, Ukraine, Uzbekistan, and Vietnam. All of the controlled countries except Cuba are listed in Country Group D:1 of the EAR. Cuba is listed in Country Group E:2. This definition does not apply to part 768 of the EAR (Foreign Availability), which provides a dedicated definition.

* * * * *

“Data signaling rate.” (Cat 5) means the rate, as defined in ITU Recommendation 53-36, taking into account that, for non-binary modulation, baud and bit per second are not equal. Bits for coding, checking and synchronization functions are to be included.

Note: When determining the “data signaling rate”, servicing and administrative channels shall be excluded.

Technical Note: It is the maximum one-way rate, i.e., the maximum rate in either transmission or reception.

* * * * *

General prohibitions. The 10 prohibitions found in part 736 of the EAR that prohibit certain exports, reexports, and other conduct, subject to the EAR, absent a license, license exception, or determination that no license is required (“NLR”).

* * * * *

Missile Technology Control Regime (MTCR). The United States and other nations in this multilateral control regime have agreed to guidelines for restricting the export and reexport of dual-use items that may contribute to the development of missiles. The MTCR Annex lists missile-related equipment and technology controlled either by the Department of Commerce's Bureau of Industry and Security—Export Administration Regulations (15 CFR Parts 730 through 799) or by the Department of State's Directorate of Defense Trade Controls—International Traffic in Arms Regulations (22 CFR Parts 120 through 130).

* * * * *

“Superalloy”. (Cat 2 and 9)—Nickel-, cobalt-, or iron-base alloys having strengths superior to any alloys in the AISI 300 series at temperatures over 922 K (649 °C) under severe environmental and operating conditions.

* * * * *

“Transfer laser”. (Cat 6)—A “laser” in which the lasing species is excited through the transfer of energy by collision of a non-lasing atom or molecule with a lasing atom or molecule species.

* * * * *

Dated: February 19, 2013.
Kevin J. Wolf,
Assistant Secretary for Export Administration.

[FR Doc. 2013-04158 Filed 2-27-13; 8:45 am]

BILLING CODE 3510-33-P